DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending December 31, 2001.

Last | First | Middle
Griess | Kevin | Michael
Lind | Gary | C
Paul-Reynaud | Catherine |
Marchi | Andrea | Gino
Lustrup | Preben | Reinholt
O'Neil | Ruth | Elith
Hansen | Kirsten | Schnedler
Bailey | Dennis |
Hara | Karen | Walseth
Stene | Roberta | Anne Huntley
Richards | William | Reese
Valenti | Malvin | J
Sassoon | Alexandria | Juana Rosetti
Krieble | Daniel | Coty
Mitchell | Keith | C
Silvera | Craig | Bruce Scott
Salamanca | Augusto | Ernesto
Phillips | Lorna | Jean
Delaney | Louanne | Claire
Mueller | Erik | Eduard
Klemenz | Deborah | Kay

Dated: February 20, 2002.
Samuel Brown,
Compliance, Correspondence Exam Operations, Unit O, Philadelphia Compliance Services.

[FR Doc. 02-6084 Filed 3-12-02; 8:45 am]

BILLING CODE 4830-01-P